DEPARTMENT OF THE INTERIOR

Fish and Wildlife Service

50 CFR Part 20

RIN 1018-AT32

Migratory Bird Hunting: Approval of Tungsten-Bronze Shot as Nontoxic for Hunting Waterfowl and Coots

AGENCY: Fish and Wildlife Service, Interior.

ACTION: Final rule; clarification.

SUMMARY: The purpose of this document is to clarify a point made in a recently published final rule. We have become aware that some language in the preamble to that rule could be confusing or misleading. This document does not change the rule in any way; it merely provides further information about a particular issue in the rule's preamble.

FOR FURTHER INFORMATION CONTACT: Dr. George T. Allen, Wildlife Biologist, U.S. Fish and Wildlife Service; telephone (703) 358-1825.

SUPPLEMENTARY INFORMATION: In response to our March 15, 2004, notice (69 FR 12105) proposing to approve the International Nontoxic Composite Corporation's (INC) tungsten-bronze shot as nontoxic for hunting waterfowl and coots, a commenter asked that we identify the sectional density of the shot. In the preamble to the August 9, 2004, final rule (69 FR 48163), we responded to that comment and noted that the sectional density of a sample provided to us was 11.68 grams per cubic centimeter (g/cc). We did not intend that this would be a limitation or condition of approval, as sectional density is not a factor that we consider with respect to approvals. The approval was based on the percent composition, as stated in 50 CFR 20.21. We understand that INC intends to produce the shot at a sectional density of approximately 12.1 g/cc, as noted in INC's application for approval of tungsten-bronze shot as nontoxic.

Dated: August 30, 2004.
Craig Manson,
Assistant Secretary for Fish and Wildlife and Parks.

[FR Doc. 04-20923 Filed 9-16-04; 8:45 am]

BILLING CODE 4310-55-P